FEDERAL COMMUNICATIONS COMMISSION

Notice of Public Information Collection(s) Being Submitted to OMB for Review and Approval

July 8, 2003.

SUMMARY: The Federal Communications Commissions (FCC), as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 21, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-XXXX.

Title: Remedial Measures for Failure to Construct Digital Television Stations (DTV Policy Statement).

Form Number: N/A.

Type of Review: New collection.

Respondents: Business and other for-profit entities; not-for-profit institutions; and individuals or households.

Number of Respondents: 400.

Estimated Time per Response: 0.5 to 1.0 hours.

Frequency of Response: On occasion reporting requirements.

Total Annual Burden: 210 hours.

Total Annual Costs: $76,000.

Needs and Uses: On April 16, 2003, the FCC released a Report and Order and Memorandum Opinion and Order on Reconsideration, In the Matter of Remedial Steps for Failure to Comply with Digital Television Construction Schedule, MM Docket No. 02-113, FCC 03-77, (“R&O”), in which the Commission has adopted a series of remedial measures for stations that fail to construct their digital television (DTV) facilities in a timely fashion and fail to justify an extension of their DTV construction deadline. Stations will be subject to periodic reporting requirements. Under the first step, the Commission will deny the request for an unqualified extension and admonish the station for its failure to comply with its DTV construction obligation. The station must submit a report within thirty days outlining the steps it intends to take to complete construction and the approximate date that it expects to reach each of these construction milestones. Sixty days after its initial report, the station must submit a report detailing its progress on meeting its proposed construction milestones and justifying any delays it has encountered. Under the second step in the approach, if the station has not come into compliance with the DTV construction rule within a six-month period, then, absent extraordinary and compelling circumstances, the Commission will issue a Notice of Apparent Liability for forfeiture to the licensee and require that the station report every thirty days on its proposed construction milestones and its efforts to meet those milestones. The R&O followed the release of an Order/Notice of Proposed Rulemaking adopted May 16, 2002, MM Docket No. 02-113, FCC 02-150, 67 FR 38459, June 4, 2002.

Federal Communications Commission.
Marlene H. Dortch,
Secretary.

[FR Doc. 03-18511 Filed 7-21-03; 8:45 am]

BILLING CODE 6712-01-P